NUCLEAR REGULATORY COMMISSION

Request for a License to Import Radioactive Waste

Pursuant to 10 CFR 110.70(C) “Public notice of receipt of an application,” please take notice that the U.S. Nuclear Regulatory Commission has received the following request for an import license. Copies of the request are available electronically through ADAMS and can be accessed through the Public Electronic Reading Room (PERR) link <http://www.nrc.gov/NRC/ADAMS/index.html> at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington DC 20555; the Secretary, U.S. Nuclear Regulatory Commission, Washington, DC 20555; and the Executive Secretary, U.S. Department of State, Washington, DC 20520.

The information concerning this amendment request follows.

NRC Import License Application
Name of applicant Date of application: Date received Application number Docket number | Description of material: Material type | Description of material: Total quantity | End use | Country of origin
Diversified Scientific Services, Inc.; March [16, 2004; April 21, 2004; IW015; 11005485 | Class A radioactive mixed waste in various forms including solids, semi-solids, and liquids | 20,000 kg mixed waste containing 100 curies tritium and carbon-14, and 100 curies mixed fission product radio-nuclides and other contaminants | Thermal destruction | Mexico.

For the Nuclear Regulatory Commission.
Dated this 21st day of May, 2004 at Rockville, Maryland.
Edward T. Baker,
Deputy Director, Office of International Programs.

[FR Doc. 04-12376 Filed 6-1-04; 8:45 am]

BILLING CODE 7590-01-P